DEPARTMENT OF THE TREASURY

United States Mint

Currently Approved Information Collection: Comment Request for Application for Intellectual Property Use Forms

AGENCY: United States Mint.

ACTION: Notice and request for comments.

SUMMARY: The Department of the Treasury invites the general public and other Federal agencies to take this opportunity to comment on currently approved information collection 1525-0013, as required by the Paperwork Reduction Act of 1995, Public Law 104-13 (44 U.S.C. 3506(c)(2)(A)). Currently, the United States Mint, a bureau of the Department of the Treasury, is soliciting comments on the United States Mint Application for Intellectual Property Use forms.

DATES: Written comments should be received on or before November 7, 2011 to be assured of consideration.

ADDRESSES: Direct all written comments to Mary Scharbrough, Compliance Branch, United States Mint, 801 9th Street, NW., 8th Floor, Washington, DC 20220; (202) 354-8400 (this is not a toll-free number); MScharbrough@usmint.treas.gov.

FOR FURTHER INFORMATION CONTACT: Requests for additional information or copies of the information collection package should be directed to Mary Scharbrough, Compliance Branch, United States Mint, 801 9th Street, NW., 8th Floor, Washington, DC 20220; (202) 354-8400 (this is not a toll-free number); MScharbrough@usmint.treas.gov.

SUPPLEMENTARY INFORMATION:

Title: Applications for Intellectual Property Use.

OMB Number: 1525-0013.

Abstract: The application form allows individuals and entities to apply for permissions and licenses to use United States Mint owned or controlled intellectual property.

Current Actions: The United States Mint reviews and assesses permission requests and applications for United States Mint intellectual property licenses.

Type of Review: Extension of a currently approved collection.

Affected Public: Businesses or other for-profit; not-for-profit institutions; State, Local, or Tribal Government; and individuals or households.

Estimated Number of Respondents: The estimated number of annual respondents is 113.

Estimated Total Annual Burden Hours: The estimated number of annual burden hours is 84.

Requests for Comments: Comments submitted in response to this notice will be summarized and/or included in the request for Office of Management and Budget (OMB) approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: September 1, 2011.
Chris Carpenter,
Chief, Information Security Division, United States Mint.

[FR Doc. 2011-22889 Filed 9-7-11; 8:45 am]

BILLING CODE 4810-37-P